DEPARTMENT OF ENERGY

Federal Energy Regulatory Commission

[Docket No. CP01-384-000 and CP01-387-000]

Islander East Pipeline Company, L.L.C., Algonquin Gas Transmission Company; Notice of Availability of the Final Environmental Impact Statement for the Proposed Islander East Pipeline Project

August 21, 2002.

The staff of the Federal Energy Regulatory Commission (FERC or Commission) has prepared this final Environmental Impact Statement (EIS) on the natural gas pipeline facilities proposed by Islander East Pipeline Company, L.L.C. (Islander East) and Algonquin Gas Transmission Company (Algonquin) in the above-referenced docket.

The final EIS was prepared to satisfy the requirements of the National Environmental Policy Act (NEPA). The staff concludes that approval of the proposed Project with appropriate mitigating measures, as recommended, would result in limited adverse environmental impacts. The final EIS evaluates alternatives to the proposal, including system alternatives, route alternatives, and route variations.

The final EIS assesses the potential environmental effects of the construction and operation of the following facilities in New Haven County, Connecticut and Suffolk County, New York.

Algonquin's facilities would consist of:

• A new 12,028 horsepower Cheshire Compressor Station in New Haven County, Connecticut;

• The removal of two launchers from an existing mainline valve and interconnect facility in New Haven County, Connecticut;

• Retest and upgrade of about 27.4 miles of the existing C-1 and C-1L mainline in New Haven County, Connecticut; and

• An anomaly investigation along about 0.1 mile of the C-1 and C-1L mainline in New Haven County, Connecticut.

Islander East's facilities would consist of:

• About 44.8 miles of 24-inch-diameter pipeline from New Haven County, Connecticut to KeySpan Energy's existing facility in Suffolk County, New York;

• About 5.6 miles of 24-inch-diameter pipeline (the Calverton Lateral) in Suffolk County, New York to a planned power plant in Calverton, New York;

• Three new meter stations: the North Haven Meter Station, the Brookhaven Meter Station, and the AES Calverton Meter Station; and

• Five mainline valves (two in Connecticut and three in New York).

The purpose of the Islander East Pipeline Project is to provide transportation service for 285,000 dekatherms per day of natural gas from supply areas, including eastern Canada, to energy markets in Connecticut and New York (specifically Long Island and New York City).

The final EIS has been placed in the public files of the FERC and is available for public inspection at: Federal Regulatory Energy Commission, Public Reference and Files Maintenance Branch, 888 First Street, NE., Room 2A, Washington, DC 20426, (202) 208-1371.

A limited number of copies of the final EIS are available from the Public Reference and Files Maintenance Branch identified above. In addition, the final EIS has been mailed to Federal, state, and local agencies, elected officials, public interest groups, individuals, and affected landowners who requested a copy of the final EIS; public libraries; newspapers; and parties to this proceeding.

In accordance with the Council on Environmental Quality's (CEQ) regulations implementing the National Environmental Policy Act, no agency decision on a proposed action may be made until 30 days after the U.S. Environmental Protection Agency publishes a notice of availability of an FEIS. However, the CEQ regulations provide an exception to this rule when an agency decision is subject to a formal internal appeal process which allows other agencies or the public to make their views known. In such cases, the agency decision may be made at the same time the notice of the FEIS is published, allowing both periods to run concurrently. The Commission decision for this proposed action is subject to a 30-day rehearing period.

Additional information about the proposed project is available from the Commission's Office of External Affairs at 1-866-208-FERC (1-866-208-3372) or on the FERC Web site (http://www.ferc.gov).¹ Click on the “FERRIS” link, enter the docket number excluding the last three digits in the [Docket Number field. Be sure you have selected an appropriate date range. For assistance with FERRIS, the FERRIS helpline can be reached at (202) 502-8222, TTY (202) 208-1659. The application and supplemental filings in these dockets are available for viewing on FERRIS.

¹ On October 11, 2001, the Commission announced that, as the result of the September 11 terrorist attacks, the FERC would limit access to certain public documents (PL01-2-000). Documents containing specific information on energy facilities would not be available through its web site or on its public reference room. Individuals requiring such information are directed to file Freedom of Information Act (FOIA) requests.

Linwood A. Watson, Jr.,
Deputy Secretary.

[FR Doc. 02-21843 Filed 8-27-02; 8:45 am]

BILLING CODE 6717-01-P